DEPARTMENT OF HEALTH AND HUMAN SERVICES

Administration for Children and Families

[Program Announcement No. ACYF-PA-HS-2000-5]

Fiscal Year 2000 Discretionary Announcement for the Head Start Fellow Program; Availability of Funds and Request for Applications

AGENCY: Administration on Children, Youth and Families, ACF, DHHS.

ACTION: Fiscal Year 2000 Discretionary Announcement for the Head Start Fellows Program; Availability of Funds and Request for Applications.

Statutory Authority 42 U.S.C. 9801, et seq., The Head Start Act, as amended.

Catalog of Federal Domestic Assistance (CFDA): 93.600 Head Start Act as amended.

SUMMARY: The Administration for Children and Families, Administration on Children, Youth and Families announces the availability of $1 million in funds to design and implement the National Head Start Fellow Program. We are seeking a partner with whom to enter into a cooperative agreement. A cooperative agreement is a form of Federal financial assistance that allows substantial Federal involvement in the activities for which funds awarded.

Note: In order to satisfactorily compete under this announcement, it will be necessary for potential applicants to read the full announcement which is available through the Head Start Bureau's website: www2.acf.dhhs.gov/programs/hsb/announce/index.htm. Hard copies of the application may be obtained by writing or calling the ACYF Operations Center or sending an E-mail to: hsf@lcgnet.com.

DATES: The closing date and time for the receipt of applications is 5 p.m. (Eastern Time Zone) on May 22, 2000. Mailed or handcarried applications received after the closing date will be classified as late.

ADDRESSES: Mail applications to: ACYF Operations Center, Attention: Head Start Fellows Application, 1815 North Fort Myers Drive, Suite 300, Arlington, VA 22209 (1-800-351-2293). Prior to preparing and submitting an application, in order to satisfactorily compete under this announcement, it will be necessary for potential applicants to read the full announcement which is available through the Head Start Bureau's website: www2.acf.dhhs.gov/programs/hsb/announce/index.htm

FOR FURTHER INFORMATION CONTACT: ACYF Operations Center at: 1815 North Fort Myer Drive, Suite 300, Arlington, VA 22209 (1-800-351-2292) or Donnell Savage at: 330 C Street, SW., Washington, DC 20447 (202) 205-8420 dsavage@acf.dhhs.gov

Eligible Applicants

Universities, colleges, foundations, professional organizations, public and private non-profit and for-profit agencies and organizations.

SUPPLEMENTARY INFORMATION: The purpose of this announcement is to request applications for the design and implementation of a National Head Start Fellows Program as envisioned in the Head Start reauthorization of 1998. The purpose of this National Head Start Fellows Program is to identify individuals with outstanding leadership potential and to involve them in a high quality developmental experience which will provide them with a variety of perspectives and experiences to help them develop their potential as the next generation of leaders for the early childhood and family services field. The result of this initiative will be to improve the quality and effectiveness of Head Start and other early childhood development programs nationwide.

Federal Share of Project Costs: The maximum Federal share is to exceed $1 million for the first 12-month budget period and $1 million for each succeeding 12-month period.

Matching Requirements: Non-Federal match is not required.

Anticipated Number of Projects to be funded: It is anticipated that one project will be funded.

Evaluation Criteria

Applications received by the due date will be reviewed and scored competitively. Experts in the field, generally persons from outside the Federal government, will use the evaluation criteria listed below.

a. Organization Profiles (40 points)

The extent to which the applicant provides a vitae on the project director/principal investigator and key project staff including resumes (name, address, training, most relevant educational background and other qualifying experiences) and a short description of their responsibilities or contribution to the applicant's work plan. The extent to which the applicant's ability to effectively and efficiently administer a project like the one proposed is described. The extent to which the mission of the organization is described as it relates to leadership development within the early childhood and family service fields and how this project fits within that mission. Applicant provides the assurance that the project director or another appropriate staff member will attend six meetings annually in Washington, D.C. to meet with federal staff to discuss issues related to the Fellows Program implementation.

b. Approach (20 points)

The extent to which the applicant outlines an acceptable plan of action pertaining to the scope of the project and details how the proposed work will be accomplished.

The extent to which the applicant describes the proposed approach and strategies that will be taken to design the program, to recruit potential participants, to support the implementation and maintenance of the Fellows Program and to evaluate the program's effectiveness.

The extent to which the applicant describes its understanding of the goals and purposes for the Fellows program and its relationship to developing leadership potential for the individuals in the field and for improving the quality of early childhood programs.

c. Objectives and Need for Assistance (15 points)

The extent to which the applicant identifies and documents any relevant economic, social, financial institutional or other problems requiring a solution; demonstrates the need for the assistance; and states the principal and subordinate objectives of the project. Supporting documentation or other testimonies from concerned interests other than the applicant on the need for assistance may be used.

If the proposed approach and strategies require the technical assistance of other colleges, universities, or nonprofit agencies, the proposal should include letters of commitment assuring their willingness to participate and indicating the roles they would play in the project.

d. Results or Benefits Expected (15 points)

The extent to which the applicant identifies the evaluation methodology that will be used to determine the specific and measurable results and benefits to be derived which are consistent with the objectives of the proposal, and indicates the anticipated contributions to policy, practice and/or theory.

e. Budget and Budget Justification (10 points)

The extent to which the project's costs are reasonable in view of the activities to be carried out and the anticipated outcomes. Provide a budget that delineates the project administration costs versus those expenses that will directly support the Fellows individually and as a group. The budget should include stipends to Fellows. The stipend should be tiered to accommodate a range of education and experience and would parallel the Federal General Schedule 12-14 pay range. Stipends should include funds to support fringe benefits. The average stipend and total amount of the $1 million of the budget that will be used for stipends for the Fellows must be delineated. It is anticipated that the major portion of the budget will be used for stipends and direct costs of the Fellows. The other expenses to support the participation of the Fellows should also be described and budgeted within the $1 million.

State Single Point of Contact (SPOC)

This program is covered under Executive Order 12372, “Intergovernmental Review of Federal Programs,” and 45 CFR Part 100, “Intergovernmental Review of Department of Health and Human Services Program and Activities.” Under the Order, States may design their own process for reviewing and commenting on proposed Federal assistance under covered programs.

Note: State territory participation in the intergovernmental review process does not signify applicant eligibility for financial assistance under a program. A potential applicant must meet the eligibility requirements of the program for which it is applying prior to submitting an application to its SPOC, if Applicable, or to ACF.

The following jurisdictions have elected not to participate in the Executive Order process: Alabama, Alaska, Colorado, Connecticut, Hawaii, Idaho, Kansas, Louisiana, Minnesota, Montana, Nebraska, New Jersey, New York, Ohio, Oklahoma, Oregon, Pennsylvania, South Dakota, Tennessee, Vermont, Virginia, Washington, American Samoa and Palau. Applicants from these jurisdictions or for projects administered by federally-recognized Indian Tribes need take no action in regard to E.O. 12372. Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOC as soon as possible to alert them of the prospective applications and receive instructions.

Applicants must submit any required material to the SPOCs as soon as possible so that the program office can obtain and review SPOC comments as part of the award process. The applicant must submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule. A list of the Single State Point of Contacts for each State and Territory can be found on the following website: http://www.whitehouse.gov/omb/grants/spoc.html

When comments are submitted directly to ACF, they should be addressed to: William Wilson, Head Start Bureau, Office of Grants Management, 330 C. St. SW, Washington, DC 20447. ATTN: Head Start Fellows Program.

Reminder: In order to satisfactorily compete under this announcement, it will be necessary for potential applicants to read the full announcement which is available through the Head Start Bureau's website: www2.acf.dhhs.gov/programs/hsb/announce/index.htm. Mail applications to: ACYF Operations Center, Attention: Head Start Fellows Application, 1815 North Fort Myers Drive, Suite 300, Arlington, VA 22209 (1-800-351-2293).

Dated: March 15, 2000.
Patricia Montoya,
Commissioner, Administration on Children, Youth and Families.

[FR Doc. 00-7020 Filed 3-21-00; 8:45 am]

BILLING CODE 4184-01-M